DEPARTMENT OF HOUSING AND URBAN DEVELOPMENT

[Docket No. FR-5496-N-01]

Notice of Federal Advisory Committee Meeting—the Manufactured Housing Consensus Committee

AGENCY: Office of the Assistant Secretary for Housing—Federal Housing Commissioner, HUD.

ACTION: Announcement of meeting.

SUMMARY: This notice sets forth the schedule and proposed agenda of an upcoming meeting of the Manufactured Housing Consensus Committee (the Committee) to be held via telephone conference. This meeting is open to the general public, which may participate by following the instructions below.

DATES: The conference call meeting will be held on Thursday, January 27, 2011, by conference call from 11 a.m. to 1 p.m. EST.

Conference Call: Members of the public who wish to join the call may call the toll free number 877-320-2367 and enter pass code 4191690. Additional information concerning the conference call can be obtained from the Department's Consensus Committee Administering Organization, the National Fire Protection Association (NFPA). Interested parties can access the NFPA Web site to obtain additional information about the Manufactured Housing Consensus Committee and the Administering Organization. The link can be found at: http://www.nfpa.org/categoryList.asp?categoryID=858. Locate Quick Links on the webpage and select Meeting Notices.

Alternately, interested parties may contact Jill McGovern of NFPA at (617) 984-7404 (this is not a toll-free number) for conference call information.

FOR FURTHER INFORMATION CONTACT: Elizabeth A. Cocke, Deputy Administrator, Office of Manufactured Housing Programs, Department of Housing and Urban Development, 451 7th Street SW., Washington, DC 20410, telephone (202) 708-6409 (this is not a toll-free number). Persons who have difficulty hearing or speaking may access this number via TTY by calling the toll-free Federal Information Relay Service at (800) 877-8339.

SUPPLEMENTARY INFORMATION: Notice of this meeting is provided in accordance with Sections 10(a) and (b) of the Federal Advisory Committee Act (5 U.S.C. App. 2) and 41 CFR 102-3.150. The Manufactured Housing Consensus Committee was established under Section 604(a)(3) of the National Manufactured Housing Construction and Safety Standards Act of 1974, as amended, 42 U.S.C. 5403(a)(3). The Committee is charged with providing recommendations to the Secretary to adopt, revise, and interpret manufactured home construction and safety standards and procedural and enforcement regulations, and with developing and recommending proposed model installation standards to the Secretary. The purpose of this conference call meeting is to conduct general business of the Committee.

Tentative Agenda

A. Convening of Federal Advisory Committee Statement

B. Roll Call

C. Welcome and Opening Remarks

D. Introductions (new member appointees participating from HUD Headquarters)

E. Public Comment and Questions

F. Committee Status Reports

G. Administering Organization Report on § 5403(a)(4) Two-year Code Cycle Management

H. Adjournment

Dated: January 11, 2011.
David H. Stevens,
Assistant Secretary for Housing—Federal Housing Commissioner.

[FR Doc. 2011-1057 Filed 1-18-11; 8:45 am]

BILLING CODE 4210-67-P